ENVIRONMENTAL PROTECTION AGENCY

40 CFR Part 52

[EPA-R05-OAR-2012-0650; FRL-9809-1]

Approval and Promulgation of Air Quality Implementation Plans; Indiana; Consent Decree Requirements

AGENCY: Environmental Protection Agency (EPA).

ACTION: Withdrawal of direct final rule.

SUMMARY: Due to the receipt of an adverse comment, EPA is withdrawing the March 15, 2013, direct final rule approving a revision to the Indiana State Implementation Plan (SIP). EPA will address the comment in a subsequent final action based upon the proposed rulemaking action, also published on March 15, 2013. EPA will not institute a second comment period on this action.

DATES: The direct final rule published at 78 FR 16412 on March 15, 2013, is withdrawn as of May 6, 2013.

FOR FURTHER INFORMATION CONTACT: Sam Portanova, Environmental Engineer, Air Permits Section, Air Programs Branch (AR-18J), Environmental Protection Agency, Region 5, 77 West Jackson Boulevard, Chicago, Illinois 60604, (312) 886-3189, portanova.sam@epa.gov.

SUPPLEMENTARY INFORMATION: EPA is withdrawing the March 15, 2013 (78 FR 16412), direct final rule approving a revision to Indiana's construction permit rule for sources subject to the state operating permit program regulations at 40 CFR Part 70. In the direct final rule, EPA stated that if adverse comments were received by April 15, 2013, the rule would be withdrawn and not take effect. On March 18, 2013, EPA received a comment, which it interprets as adverse and, therefore, EPA is withdrawing the direct final rule. EPA will address the comment in a subsequent final action based upon the proposed rulemaking action, also published on March 15, 2013 (78 FR 16449). EPA will not institute a second comment period on this action.

List of Subjects in 40 CFR Part 52

Environmental protection, Air pollution control, Incorporation by reference, Intergovernmental relations, Sulfur oxides.

Authority: 42 U.S.C. 7401 et seq.

Dated: April 22, 2013.
Susan Hedman,
Regional Administrator, Region 5.

PART 52—APPROVAL AND PROMULGATION OF IMPLEMENTATION PLANS

Accordingly, the amendment to 40 CFR 52.770 published in the Federal Register on March 15, 2013 (78 FR 16412) on page 16414 is withdrawn as of May 6, 2013.

[FR Doc. 2013-10690 Filed 5-3-13; 8:45 am]

BILLING CODE 6560-50-P